DEPARTMENT OF HEALTH AND HUMAN SERVICES

Administration for Children and Families

Notice of Public Consultation

AGENCY: Administration for Native Americans (ANA).

ACTION: Notice of Public Consultation.

SUMMARY: The Administration for Children and Families (ACF) will be holding a half-day Tribal Consultation Session on September 20, 2004 at the Rayburn House Office Building in Washington, DC.

DATES: September 20, 2004.

FOR FURTHER INFORMATION CONTACT: Kim Vigue, Administration for Native Americans, toll free at 1-877-922-9262 or www.masterkeyconsulting.com/acfconference.

SUBMISSION INFORMATION: Tribal leaders and representatives interested in submitting written testimony or topics to be discussed on the Consultation Session agenda should contact Kim Vigue toll free at 1-877-922-9262.

If you are proposing a topic to be addressed in the Consultation Session, please be sure to include a brief description of the topic area along with the name and contact information of a suggested presenter.

The public record will remain open for 60 days following the September 20, 2004 consultation. Written comment and testimony can be submitted until November 19, 2004.

SUPPLEMENTARY INFORMATION: The Administration for Children and Families would like to invite Tribal leaders to participate in a formal consultation Session with ACF senior officials and program directors. The Consultation Session will take place Monday, September 20, 2004 from 8:30 a.m. to 12:30 p.m. in Rayburn House Office Building Room B-339.

The intent of this Consultation Session is to allow ACF officials to hear first hand from Tribal leaders and representatives of Tribal organizations and Native Americans non-profit organizations about the implementation of ACF programs in Native Americans communities. Of particular interest are the challenges that Tribes and Tribal organizations face in accessing ACF program funding and using program funding to support social and economic development activities in Native American communities. ACF offices such as the Administration for Native Americans, Office of Child Support Enforcement, Office of Community Services, Office of Family Assistance, Child Care Bureau, Children's Bureau, Head Start Bureau, and the Family and Youth Services Bureau will be represented.

Because of the limited time, ACF has collaborated with Master Key Consulting to plan and facilitate the session. Master Key Consulting will be responsible for coordinating the stakeholders who wish to participate in the Consultation Session and will work with a planning committee to develop a structured agenda, identifying key issues to be raised and spokespersons to present testimony on the issues.

Dated: August 6, 2004.
Quanah Crossland Stamps,
Commissioner, Administration for Native Americans.

[FR Doc. 04-18588 Filed 8-13-04; 8:45 am]

BILLING CODE 4184-01-M